DEPARTMENT OF ENERGY

Federal Energy Regulatory Commission

[Docket No. ER02-2233-006, et al.]

Ameren Services Company, et al.; Electric Rate and Corporate Filings

July 15, 2003.

The following filings have been made with the Commission. The filings are listed in ascending order within each docket classification.

1. Ameren Services Company, American Transmission Systems, Incorporated, Northern Indiana Public Service Company, National Grid USA, and Midwest Independent Transmission System Operator, Inc.

[Docket No. ER02-2233-006]

Take notice that on July 10, 2003, the GridAmerica Participants, the Midwest Independent Transmission System Operator, Inc. (Midwest ISO), and the Midwest ISO Transmission Owners (jointly, the Applicants) filed a Supplemental Agreement in compliance with the Commission's May 15, 2003 Order, 103 FERC ¶ 61,178 .

The Applicants have requested waiver of the requirements set forth in 18 CFR 385.2010. The Midwest ISO states it has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: July 25, 2003.

2. Sierra Pacific Resources Operating Companies, Sierra Pacific Power Company, and Nevada Power Company

[Docket Nos. ER02-2609-003 and ER03-37-003]

Take notice that on July 9, 2003, Sierra Pacific Resources Operating Companies, Sierra Pacific Power Company and Nevada Power Company (together, SPR), filed compliance tariff sheets as required by the Commission Order issued July 1, 2003, in Docket Nos. ER02-2609-000 and ER03-37-000, 104 FERC ¶ 61,003.

Comment Date: July 30, 2003.

3. Virginia Electric and Power Company

[Docket No. ER03-743-001]

Take notice that on July 9, 2003, Virginia Electric and Power Company, doing business as Dominion Virginia Power, tendered for filing a revised page in a Generator Interconnection and Operating Agreement between Dominion Virginia Power and CPV Cunningham Creek LLC, modifying a definition contained in compliance with the Commission's Order dated June 10, 2003, Virginia Electric and Power Company, 103 FERC ¶ 61,318 (Order).

Dominion Virginia Power requests that the Commission accept the Revised Page to allow it to become effective on April 15, 2003, commensurate with the effective date granted in the Order.

Comment Date: July 30, 2003.

4. AIG Energy Inc.

[Docket No. ER03-770-001]

Take notice that on July 9, 2003, AIG Energy Inc., (AIG) made a compliance filing pursuant Commission's Order issued on June 11, 2003, in Docket No. ER03-770-000. AIG states that the Commission's Order accepted the Notice of Succession and Change in Status filing, conditioned upon AIG, within 30 days of the order, changing the designation of its rate schedule to reflect the name change of the company. Seller's filing reflects this change.

Comment Date: July 30, 2003.

5. DTE East China, LLC and DTE Energy Trading, Inc.

[Docket No. ER03-931-000]

Take notice that on June 30, 2003, DTE East China, LLC and DTE Energy Trading, Inc. (collectively, the Applicants) hereby withdraw their Application for Blanket Authorizations, Certain Waivers, Order Approving Market-Based Rate Tariff and Requests for Expedited Action, filed in Docket No. ER03-931-000, June 5, 2003.

Comment Date: July 25, 2003.

6. Oncor Electric Delivery Company

[Docket No. ER03-1049-000]

Take notice that on July 9, 2003, Oncor Electric Delivery Company (Oncor), tendered for filing, First Revised Sheet Nos. 24, 37-39, 50, 54 for its FERC Electric Tariff, Eighth Revised Volume No. 1, Tariff for Transmission Service. Oncor states that the revisions are to modify its rates for transmission service increase to the Standard Allowance Factor for calculation of a customer's contribution in aid of construction for extension of facilities, and to make other minor clerical modifications.

Oncor states that this filing has been served upon each customer taking service under the tariff and the Public Utility Commission of Texas.

Comment Date: July 30, 2003.

7. Oncor Electric Delivery Company

[Docket No. ER03-1051-000]

Take notice that on July 9, 2003, Oncor Electric Delivery Company (Oncor), tendered for filing First Revised Sheet Nos. 34 and 44 for its FERC Electric Tariff, Third Revised Volume No. 2, Tariff for Transmission Service for Tex-La Electric Cooperative of Texas (Tex-La) to modify its rates for transmission service and to increase to the Standard Allowance Factor for calculation of a customer's contribution in aid of construction for extension of facilities.

Oncor states that this filing has been served upon Tex-La and the Public Utility Commission of Texas.

Comment Date: July 30, 2003.

8. Consolidated Edison Company of New York, Inc.

[Docket No. ER03-1053-000]

Take notice that on July 9, 2003, Consolidated Edison Company of New York, Inc. (Con Edison), requested that the Federal Energy Regulatory Commission discontinue a service agreement for non-firm transmission service pursuant to its Open Access Transmission Tariff to Enron Power Marketing, Inc. (Enron) as the United States Bankruptcy Court has effectively terminated the agreement.

Con Edison states that a copy of this filing has been served by mail to Enron.

Comment Date: July 30, 2003.

9. FirstEnergy Solutions Corp.

[Docket No. ER03-1054-000]

Take notice that on July 9, 2003, FirstEnergy Solutions Corp. (FE Solutions) submitted for filing the following agreements between Generation Services (BGS) and retail electric service customers that are connected to the electric distribution system of Jersey Central Power & Light Company.

(1) BGS-FP Agreement dated February 7, 2003;

(2) BGS-HEP Agreement dated February 7, 2003; and

(3) BGS-Green Energy Program Agreement dated February 24, 2003.

To the extent that these agreements are required to be filed with the Commission, FE Solutions has asked for waiver of the advance notice requirements, the restrictions on sales of power between affiliated entities, and any other applicable requirements, in order to make each of the Supplier Master Agreements effective as of August 1, 2003.

Comment Date: July 30, 2003.

10. Tampa Electric Company

[Docket No. ER03-1057-000]

Take notice that on July 10, 2003, Tampa Electric Company (Tampa Electric) tendered for filing revised rate schedule sheets showing an amendment to Exhibit A to the contract for interchange service between Tampa Electric and Florida Power & Light Company (FPL), and a correction to the language of Service Schedule A under that contract. Tampa Electric states that the amendment reflects a sale by FPL to Tampa Electric of a segment of transmission line that interconnects their respective systems. Tampa Electric also states that it proposes that the revised rate schedule sheets containing the amendment and the correction be made effective on October 11, 2002 and July 10, 2003, respectively.

Tampa Electric states that copies of the filing have been served on FPL and the Florida Public Service Commission.

Comment Date: July 31, 2003.

11. Covanta Hennepin Energy Resource Co., Limited Partnership

[Docket No. ER03-1058-000]

Take notice that on July 10, 2003, Covanta Hennepin Energy Resource Co., Limited Partnership (Hennepin Energy) tendered for filing a Notice of Cancellation of its Rate Schedule FERC No. 1 pursuant to Section 35.15 of the Federal Energy Regulatory Commission's (Commission) regulations, 18 CFR 35.15. Rate Schedule FERC No. 1 was filed with the Commission on May 26, 1989 and June 13, 1989 in Docket No. ER89-462-000 and consists of a power purchase agreement (PPA) between Hennepin Energy and Northern States Power Company. Hennepin Energy states that the rate schedule is to be canceled since Hennepin Energy is assigning its interest in the PPA to Hennepin County, Minnesota.

Hennepin Energy requests an effective date of July 10, 2003, for the cancellation. Hennepin Energy also states that copies of the filing were served upon NSP and the Minnesota Public Utilities Commission.

Comment Date: July 31, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-18659 Filed 7-21-03; 8:45 am]

BILLING CODE 6717-01-P